DEPARTMENT OF COMMERCE

National Oceanic and Atmospheric Administration

RIN 0648-XF132

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day meeting to consider actions affecting New England fisheries in the exclusive economic zone (EEZ).

DATES: The meeting will be held on Tuesday, Wednesday, and Thursday, January 24, 25, and 26, 2017, beginning at 9 a.m. on January 24, 8:30 a.m. on January 25, and 8:30 a.m. on January 26.

ADDRESSES: The meeting will be held at the Sheraton Harborside Hotel, 250 Market Street, Portsmouth, NH 03801; telephone (603) 431-2300; online at www.sheratonportsmouth.com.

Council address: New England Fishery Management Council, 50 Water Street, Mill 2, Newburyport, MA 01950; telephone: (978) 465-0492; www.nefmc.org.

FOR FURTHER INFORMATION CONTACT: Thomas A. Nies, Executive Director, New England Fishery Management Council; telephone: (978) 465-0492, ext. 113.

SUPPLEMENTARY INFORMATION:

Agenda

Tuesday, January 24, 2017

After introductions and brief announcements, the meeting will begin with reports from the Council Chairman and Executive Director, NMFS's Regional Administrator for the Greater Atlantic Regional Office (GARFO), liaisons from the Northeast Fisheries Science Center (NEFSC) and Mid-Atlantic Fishery Management Council, representatives from NOAA General Counsel and the Office of Law Enforcement, and staff from the Atlantic States Marine Fisheries Commission and the U.S Coast Guard. Following these reports, the Council will hear from its Monkfish Committee, which will provide an overview of the Mid-Atlantic Council's Dec. 13, 2016, actions regarding Monkfish Framework Adjustment 10 and Amendment 6. The Council also will revisit a postponed motion from its November meeting regarding trip-boat requirements for monkfish gillnetters using 10” and larger-size mesh. Next, the Council will receive a presentation from GARFO staff on the Industry-Funded Monitoring (IFM) Omnibus Amendment. The Council will review public comments on the amendment and potentially select preferred alternatives.

After a lunch break, members of the public will be able to speak during an open comment period on issues that relate to Council business but are not included on the published agenda for this meeting. The Council asks the public to limit remarks to 3-5 minutes. The Atlantic Herring Committee will report next. During this segment of the meeting, the Council is scheduled to take final action on Framework Adjustment 5 to the Atlantic Herring Fishery Management Plan (FMP). This amendment was developed to potentially modify Georges Bank haddock bycatch accountability measures (AMs) in the herring midwater trawl fishery. Regarding Amendment 8 to the FMP, the Council will: (a) Review results from its recent Management Strategy Evaluation (MSE) workshop; (b) preview potential alternatives for a new acceptable biological catch (ABC) control rule for Atlantic herring; and (c) receive a brief update on measures currently under development to address herring localized depletion and user conflicts. Following the herring report, the Council will adjourn for the day and then hold a 5 p.m. scoping hearing to solicit initial public input on Amendment 10 to the Northeast Skate Complex FMP, which is being developed to potentially limit access to the skate bait and skate wing fisheries.

Wednesday, January 25, 2017

The second day of the meeting will begin with a 15-minute closed session to allow Council members to consult on 2017-19 appointments to the Scientific and Statistical Committee (SSC). The open session will begin at 8:45 a.m. with a presentation by staff from the Bureau of Ocean Energy Management covering the recent New York commercial wind energy lease sale and revised environmental assessment. The Northeast Fisheries Science Center then will provide a Cooperative Research Review update. Next, staff from the Lenfest Ocean Program will give an overview of the Lenfest Task Force's new report titled “Building Effective Fishery Ecosystem Plans.” Immediately following, the Council will hear from its own Ecosystem-Based Fishery Management Committee, which will provide a progress report on the development of operating models and a draft example Fishery Ecosystem Plan for Georges Bank.

After a lunch break, the Northeast Fisheries Science Center will present new assessment results for witch flounder and black sea bass developed by the 62nd Stock Assessment Workshop/Stock Assessment Review Committee, commonly referred to as SAW/SARC 62. The SSC then will provide overfishing limit (OFL) and ABC recommendations for witch flounder. The Groundfish Committee will report next. During this segment of the meeting, the Council is scheduled to take final action on 2017-19 witch flounder specifications for Framework Adjustment 56 to the Northeast Multispecies FMP. In addition, the Council will provide recommendations to GARFO on fishing year (FY) 2017 Gulf of Maine cod and haddock recreational measures. It also will revisit a postponed motion from its November meeting to consider asking GARFO to investigate options for exempting fishermen from southern windowpane flounder accountability measures for FY 2017. The Council will close out the day by receiving a work update on 2017 groundfish priorities.

Thursday, January 26, 2017

The third day of the meeting will begin with an initial planning discussion about the upcoming programmatic review of Council operations. The Council in November voted to make the programmatic review a 2017 priority. Next, GARFO staff will provide a report on the region's Fishery Dependent Data Visioning Project summarizing GARFO/NEFSC efforts to modernize fishery dependent data collection. The Marine Mammal Commission (MMC) will report next. MMC staff will provide an overview of agency responsibilities and mandates and then present a preview of the MMC's April 5-7, 2017 annual meeting agenda.

The Council may not take a lunch break during this last day of its January meeting but instead proceed directly to “other business.”

Although non-emergency issues not contained in this agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies (see ADDRESSES) at least 5 days prior to the meeting date.

Dated: December 30, 2016.
Jeffrey N. Lonergan,
Acting Deputy Director, Office of Sustainable Fisheries, National Marine Fisheries Service.

[FR Doc. 2016-31966 Filed 1-4-17; 8:45 am]

BILLING CODE 3510-22-P